DEPARTMENT OF HOMELAND SECURITY

Coast Guard

33 CFR Part 100

[Docket Number USCG-2025-0519]

RIN 1625-AA08

Special Local Regulation; Casco Bay, Cow Island, Long Island, ME

AGENCY: Coast Guard, DHS.

ACTION: Temporary final rule.

SUMMARY: The Coast Guard is establishing a temporary special local regulation for the navigable waters of Casco Bay, in the vicinity of Cow Island, ME, to support an offshore concert with spectator vessels. This regulation is needed to ensure the safety of spectators and mariners from risks associated with a large gathering on the water. The regulation will temporarily establish a spectator area and a safe access lane for transit and emergency response while also prohibiting swimming and creating a speed restriction/no wake zone.

DATES: This rule is effective from 12:30 p.m. August 16, 2025, to 5:30 p.m. August 17, 2025. It will only be subject to enforcement, however, from 12:30 p.m. through 5:30 p.m. on Saturday, August 16, 2025, unless the event is delayed because of weather conditions, in which case it may be subject to enforcement of those same hours on August 17, 2025.

ADDRESSES: To view documents mentioned in this preamble as being available in the docket, go to https://www.regulations.gov, type USCG-2025-0519 in the search box and click “Search.” Next, in the Document Type column, select “Supporting & Related Material.”

FOR FURTHER INFORMATION CONTACT: If you have questions about this proposed rulemaking, call or email, LT Amanda Barnett, Sector Northern New England, U.S. Coast Guard; telephone 207-808-9137, email NNEWaterways@uscg.mil.

SUPPLEMENTARY INFORMATION:

I. Table of Abbreviations

CFR Code of Federal Regulations

COTP Captain of the Port, Northern New England

DHS Department of Homeland Security

FR Federal Register

NPRM Notice of proposed rulemaking

§ Section

U.S.C. United States Code

II. Background Information and Regulatory History

As an organized water event of limited duration which is conducted according to a prearranged schedule is a “Regatta or marine parade,” as defined at 33 CFR 100.05. An individual or organization planning to hold a regatta or marine parade which, by its nature, circumstances or location, will introduce extra or unusual hazards to the safety of life on the navigable waters of the United States, must submit an application to hold it. 33 CFR 100.15. On May 16, 2025, the event sponsor of the “Flotilla to Fight Cancer Benefit Concert” submitted an application under 33 CFR 100.15 to conduct the Fight Cancer Benefit Concert for approximately five hours on August 16, 2025, with a rain date of August 17, 2025. The offshore concert will take place in Casco Bay, on the Falmouth side of Cow Island, in the Town of Long Island, ME.

After approving plans for the holding of a regatta or marine parade within his or her district or zone, a Captain of the Port (COTP) is authorized to promulgate such special local regulations (SLR) as he or she deems necessary to ensure safety of life on the navigable waters immediately prior to, during, and immediately after the approved regatta or marine parade. 33 CFR 100.35. Due to the high-profile nature of this event, spectator vessels and support craft that will be present and they will have the potential to cause vessel congestion in Casco Bay on the Falmouth side of Cow Island, in Long Island, ME. The COTP, Sector Northern New England has determined that potential hazards associated with the offshore concert and offshore concert location would be a safety concern for anyone within the concert area and adjacent navigable waters and is therefore establishing these SLRs.

The Coast Guard is issuing this temporary rule under the authority in 5 U.S.C. 553(b)(B). This statutory provision authorizes an agency to issue a rule without prior notice and opportunity to comment when the agency for good cause finds that those procedures are “impracticable, unnecessary, or contrary to the public interest.” The Coast Guard finds that good cause exists for not publishing a notice of proposed rulemaking (NPRM) with respect to this rule because it is impractical to do so due to insufficient time to publish a final rule by August 16, 2025.

Under 5 U.S.C. 553(d)(3), the Coast Guard finds that good cause exists for making this rule effective less than 30 days after publication in the Federal Register. Delaying the effective date of this rule would be impracticable because the rule must be in effect by August 16, 2025, to serve its intended purpose.

III. Legal Authority and Need for Rule

The Coast Guard is issuing this rule under authority in 46 U.S.C. 70041. The COTP has determined that this rule is needed to protect personnel, vessels, and the marine environment from the hazards associated with the offshore concert event.

IV. Discussion of the Rule

The Coast Guard is establishing a temporary SLR for a one-day event from 12:30 p.m. through 5:30 p.m. on Saturday, August 16, 2025, unless the event is delayed because of weather conditions in which case it will be subject to enforcement of those same hours on August 17, 2025. The regulated area, as shown below, in figure 1, starts at the point in position at 43°41′26″ N, 070°11′28″ W; then East along the coast of the Falmouth side of Cow Island to a point in position of 43°41′45″ N, 070°11′04″ W; then Northwest to a point in position of 43°41′53″ N, 070°11′18″ W; then Southeast to a point in position of 43°41′34″ N, 070°11′41″ W; and then to point of origin 43°41′26″ N, 070°11′28″ W expressed in Degrees (°) Minutes (′) Seconds (″) (DMS) based on North American Datum 1983 (NAD 83).

The regulated area will mainly serve as a spectator zone but will also include two transit areas where stopping, fishing, mooring, anchoring, or loitering is prohibited at all times. The first transit area will run parallel to the concert stage barge, extending the entire length of the spectator zone, with a width of 240 feet. The second transit area will run down the center of the spectator area, perpendicular to the concert stage barge, with a width of 240 feet. These transit areas will allow vessels to enter and exit the spectator zone from all sides and provide access for emergency vessels.

The temporary SLR will prohibit swimming in the entire regulated area. Additionally, all vessels must follow a “Slow-No Wake” speed limit, meaning they cannot create a wake and cannot exceed speeds of five (5) knots unless a higher speed is needed to maintain control. This regulation is in place to ensure the safety of vessels and people before, during, and after the concert.

V. Regulatory Analyses

We developed this rule after considering numerous statutes and Executive orders related to rulemaking. Below we summarize our analyses based on a number of these statutes and Executive orders.

A. Regulatory Planning and Review

Executive Orders 12866 (Regulatory Planning and Review) and 13563 (Improving Regulation and Regulatory Review) direct agencies to assess the costs and benefits of available regulatory alternatives and, if regulation is necessary, to select regulatory approaches that maximize net benefits. Executive Order 13563 emphasizes the importance of quantifying both costs and benefits, of reducing costs, of harmonizing rules, and of promoting flexibility.

The Office of Management and Budget (OMB) has not designated this rule a “significant regulatory action,” under section 3(f) of Executive Order 12866. Accordingly, OMB has not reviewed it.

This regulatory action determination is based on size, location, and duration and time-of-day of the event. This rule involves a special local regulation lasting approximately 5 hours (12:30 p.m.-5:30 p.m.) and impacting a certain area of Casco Bay, Cow Island, ME. Moreover, the Coast Guard will issue a Broadcast Notice to Mariners via VHF-FM marine channel 16 about the regulated area.

B. Impact on Small Entities

The regulatory flexibility analysis provisions of the Regulatory Flexibility Act of 1980, 5 U.S.C. 601-612, do not apply to rules not subject to notice and comment. As the Coast Guard has, for good cause, waived the notice and comment requirement that would otherwise apply to this rulemaking, the Regulatory Flexibility Act's flexibility analysis provisions do not apply here.

Under section 213(a) of the Small Business Regulatory Enforcement Fairness Act of 1996 (Pub. L. 104-121), we want to assist small entities in understanding this rule. If the rule will affect your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969 (42 U.S.C. 4321-4370f), and have determined that this action is one of a category of actions that do not individually or cumulatively have a significant effect on the human environment. This rule involves This proposed rule involves establishing a special local regulation lasting for 5 hours on a day in August that will restrict movement in a certain area of Casco Bay, Cow Island, ME for the duration of the marine event. It is categorically excluded from further review under paragraph L61 of Appendix A, Table 1 of DHS Instruction Manual 023-01-001-01, Rev. 1. A Record of Environmental Consideration supporting this determination is available in the docket. For instructions on locating the docket, see the ADDRESSES section of this preamble.

List of Subjects in 33 CFR Part 100

Harbors, Marine safety, Navigation (water), Reporting and recordkeeping requirements, Security measures, Waterways.

For the reasons discussed in the preamble, the Coast Guard amends 33 CFR part 100 as follows:

PART 100—SAFETY OF LIFE ON NAVIGABLE WATERS

1. The authority citation for part 100 continues to read as follows:

Authority: 46 U.S.C. 70041; 33 CFR 1.05-1.

2. Add § 100.T0199-0519 to read as follows:

§ 100.T0199-0519 Special Local Regulation; Casco Bay, Cow Island, Long Island, ME.

(a) Regulated area. All navigable waters of Casco Bay near the Falmouth side of Cow Island, Long Island, ME, within in a polygon bounded by the following: originating at a point in position at 43°41′26″ N, 070°11′28″ W; then East along the coast of Cow Island to a point in position of 43°41′45″ N, 070°11′04″ W; then Northwest to a point in position of 43°41′53″ N, 070°11′18″ W; then Southeast to a point in position of 43°41′34″ N, 070°11′41″ W; and then to point of origin 43°41′26″ N, 070°11′28″ W. These coordinates are based on World Geodetic System (WGS 84).

(1) Spectator area. All navigable waters of Casco Bay near the Falmouth side of Cow Island, Long Island, ME, as described in paragraph (a) of this section.

(2) Transit areas. As shown in figure 1 to this paragraph (a)(2), a transit area will run adjacent and parallel to the concert stage barge, extending through the entire spectator area with a width of 240′. Another transit area will run down the center of the spectator area, perpendicular to the concert stage barge.

Figure 1 to Paragraph (a)(2)—Chartlet Showing the Layout of the Special Local Regulation

(b) Definitions. As used in this section—

Captain of the Port Representative or COTP Representative means a commissioned, warrant, or petty officer of the Coast Guard designated by name by the Captain of the Port to verify an event's compliance with the conditions of its approved permit.

Event Patrol Commander or Event PATCOM means a commissioned, warrant, or petty officer of the Coast Guard who has been designated by the respective Coast Guard Sector—Captain of the Port to enforce the regulations in paragraph (d) of this section.

Official patrol vessel or official patrol means any vessel assigned or approved by the respective Captain of the Port with a commissioned, warrant, or petty officer on board and displaying a Coast Guard ensign, or any state or local law enforcement vessel approved by the Captain of the Port in accordance with current local agreements.

Spectator area means an area bound by coordinates provided in latitude and longitude within the regulated area that outlines the boundary of an area reserved for spectator vessels watching the concert.

Transit area means an area that is designated lane within the regulated area described in paragraph (a) of this section where vessels are allowed to travel through safely.

(c) Patrol of the marine event. The COTP may assign one or more official patrol vessels, as described in § 100.40, to the regulated event. The Event PATCOM will be designated to oversee the patrol. The patrol vessel and the Event PATCOM may be contacted on VHF-FM Channel 16. The Event PATCOM may terminate the event at any time if deemed necessary for the protection of life or property.

(d) Regulations. (1) All persons are prohibited from swimming in the regulated area described in paragraph (a) of this section.

(2) Any vessel transiting through a transit area must make a direct passage. No vessel may stop, fish, moor, anchor, or loiter within a transit area at any time.

(3) Entry and movement within the regulated area is subject to a “Slow-No Wake” speed limit. All vessels may not produce a wake and may not attain speeds greater than five (5) knots unless a higher minimum speed is necessary to maintain bare steerageway.

(4) To contact the Captain of the Port Representative or Official patrol vessel via VHF-FM marine channel 16 or by contacting the Coast Guard Sector Northern New England Command Center at (833) 449-2407. Those in the regulated area must comply with all lawful orders or directions given to them by the Captain of the Port Representative or Official patrol vessel.

(e) Enforcement period. This section is in effect from 12:30 p.m. August 16, 2025, to 5:30 p.m. August 17, 2025. It will only be subject to enforcement, however, from 12:30 p.m. through 5:30 p.m. on Saturday, August 16, 2025, unless the event is delayed because of weather conditions, in which case it may be subject to enforcement of those same hours on August 17, 2025.

Timothy McNamara,
Commander, U.S. Coast Guard, Acting Captain of the Port, Sector Northern New England.

[FR Doc. 2025-15538 Filed 8-14-25; 8:45 am]

BILLING CODE 9110-04-P